DEPARTMENT OF ENERGY

Federal Energy Regulatory Commission

[Docket No. EL12-35-000]

Midwest Independent Transmission System Operator, Inc.; ALLETE, Inc.; Ameren Illinois Company; Ameren Transmission Company of Illinois; American Transmission Company, LLC; Big Rivers Electric Corporation; Board of Water, Electric and Communications Trustees of the City of Muscatine, Iowa; Central Minnesota Municipal Power Agency; City of Columbia, Missouri, Water & Light Company; City Water, Light & Power (Springfield, Illinois); Dairyland Power Cooperative; Great River Energy; Hoosier Energy Rural Electric Cooperative, Inc; Indiana Municipal Power Agency; Indianapolis Power & Light Company; International Transmission Company; ITC Midwest, LLC; Michigan Electric Transmission Company, LLC; Michigan Public Power Agency; Michigan South Central Power Agency; MidAmerican Energy Company; Missouri River Energy Services; Montana-Dakota Utilities Company; Montezuma Municipal Light & Power; Municipal Electric Utility of the City of Cedar Falls, Iowa; Muscatine Power and Water; Northern Indiana Public Service Company; Northern States Power Company, a Minnesota Corporation; Northern States Power Company, a Wisconsin Corporation; Northwestern Wisconsin Electric Company; Otter Tail Power Company; Southern Illinois Power Cooperative; Southern Indiana Gas & Electric Company; Southern Minnesota Municipal Power Agency; Tipton Municipal Utilities; Union Electric Company; Wabash Valley Power Association, Inc.; Wolverine Power Supply Cooperative, Inc.; Notice of Initiation of Proceeding and Refund Effective Date

On May 17, 2012, the Commission issued an order that initiated a proceeding in Docket No. EL12-35-000, pursuant to section 206 of the Federal Power Act (FPA), 16 U.S.C. 824e (2006), to determine whether the formula rate protocols under the Midwest Independent Transmission System Operator, Inc. Tariff are sufficient to ensure just and reasonable rates. Midwest Independent Transmission System Operator, Inc., et al., 139 FERC ¶ 61,127 (2012).

The refund effective date in Docket No. EL12-35-000, established pursuant to section 206(b) of the FPA, will be the date of publication of this notice in the Federal Register.

Dated: May 17, 2012.
Nathaniel J. Davis, Sr.,
Deputy Secretary.

[FR Doc. 2012-12466 Filed 5-22-12; 8:45 am]

BILLING CODE 6717-01-P